DEPARTMENT OF AGRICULTURE

Agricultural Marketing Service

7 CFR Part 36

[Document No. AMS-FV-07-0100]

Procedures by Which the Agricultural Marketing Service Develops, Revises, Suspends, or Terminates Voluntary Official Grade Standards: United States Standards for Grades of Frozen Okra

AGENCY: Agricultural Marketing Service, USDA.

ACTION: Request for comments.

SUMMARY: The Agricultural Marketing Service (AMS) of the Department of Agriculture (USDA) proposes to revise the United States Standards for Grades of Frozen Okra. The standards for frozen okra would be changed from a “variable score point” system to an “individual attribute” grading system; the “dual grade nomenclature” would be replaced with single letter grade designation and editorial changes would be included. These changes would bring the standards for frozen okra in line with the present quality levels being marketed today and would provide guidance in the effective utilization of frozen okra.

DATES: Comments must be submitted on or before August 1, 2011.

ADDRESSES: Written comments may be mailed to Brian E. Griffin, Inspection and Standardization Section, Processed Products Branch, Fruit and Vegetable Programs, Agricultural Marketing Service, U.S. Department of Agriculture, 1400 Independence Avenue, SW., Room 0709, South Building; STOP 0247, Washington, DC 20250; fax: (202) 690-1527; or Internet: http://www.regulations.gov. The proposed United States Standards for Grades of Frozen Okra are available through the address cited above. All comments should reference the document number, date, and page number of this issue of the Federal Register. All comments will be posted without change, including any personal information provided. All comments submitted in response to this notice will be included in the record and will be made available to the public on the Internet via http://www.regulations.gov. Comments will be made available for public inspection at the above address during regular business hours or can be viewed at: http://www.regulations.gov.

FOR FURTHER INFORMATION CONTACT: Contact Brian E. Griffin, at the address above, or phone (202)720-5021; or fax (202) 690-1527. Copies of the proposed U.S. Standards for Grades of Frozen Okra are available on the Internet at http://www.regulations.gov.

SUPPLEMENTARY INFORMATION: Section 203(c) of the Agricultural Marketing Act of 1946, as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. Those United States Standards for Grades of Fruits and Vegetables no longer appear in the Code of Federal Regulations but are maintained by USDA, AMS, Fruit and Vegetable Programs. AMS is proposing revisions in the U.S. Standards for Grades of Frozen Okra using the procedures that appear in part 36 of Title 7 of the Code of Federal Regulations (7 CFR part 36).

Background: AMS received a petition from the American Frozen Food Institute (AFFI) requesting the revision of the standards for frozen okra. The petitioners represent almost all of the processors of frozen okra in the United States. The grade standards are presently based on the variable score points grading system.

It is proposed that the standards be modified to convert them to a statistically-based individual attribute grading system, similar to the United States Standards for Grades of Canned Green and Wax Beans (58 FR 4295; January 14, 1993). The individual attribute grading system uses sample size and acceptable quality levels (AQLs), as well as tolerances and acceptance numbers (number of allowable defects), to determine the quality level of a lot. This change would bring the standards in line with current marketing practices and innovations in processing techniques.

In addition, AMS proposes to replace the dual grade nomenclature with single letter designations. “U.S. Grade A”

(or “U.S. Fancy”) and “U.S. Grade B” (or “U.S. Extra Standard”) would become “U.S. Grade A” and “U.S. Grade B”, respectively.

These revisions would also include minor editorial changes. These changes provide a uniform format consistent with recent revisions of other U.S. grade standards. This format has been designed to provide industry personnel and agricultural commodity graders with simpler and more comprehensive standards. Definitions of terms and easy-to-read tables would be incorporated to assure a better understanding and uniform application of the standards.

Prior to undertaking research and other work associated with revising the standards, AMS sought public comments on the petition (see 64 FR 52266).

More recently, a notice requesting additional comments on the proposed revision to the United States Standards for Grades of Frozen Okra was published in the December 12, 2007, Federal Register (72 FR 70565). At the request of AFFI, a notice reopening and extending the comment period was published in the May 16, 2008, Federal Register (73 FR 28424). A 60 day period was provided for interested persons to submit comments on the proposed standards. AMS received a comment from AFFI that requested a tolerance be established for “Cap Ends” for both “Whole” and “Cut” styles as follows: Portion of “stem” extending between ⅜ and ½ inch beyond the cap scar equals “poor or excessive trim”; “Stem” extending greater than ½ inch beyond cap scar equals “EVM”. In addition, the petitioner requested that in Table II, “Excessive Trim (included in Mechanical Damage)” be better defined.

The petitioner noted that this criterion was removed from the prior “Small Pieces/Misshapen” category and moved to the proposed 10 percent “Mechanical Damage” category. For cut style, AFFI stated that less than ¼ inch be the limit for small pieces, but AFFI suggested that tolerances should be based on percent by weight. In doing this, “Small Pieces” would be taken out of the “Mechanical Damage” category. Lastly, AFFI suggested that with the criteria for “Cap Ends” above and the tolerances given for “Tough Fiber”, the “Inedible Stems” category was no longer needed.

Subsequent to their submission of comments, and upon further discussion with AFFI through several discussion drafts between September 2008 and February 2011, the following changes also were proposed. From the definition of “Appearance”, the reference to “for regular process” would be deleted. This terminology does not apply to the concept of the term, “Appearance” and its elimination from the proposed standards would have no impact on the grade of the product.

Also, in the definition of the term, Appearance, under Good Appearance, “reasonably free” would be changed to “practically free”, and under “Reasonably Good Appearance,” “fairly free” would be changed to “reasonably free”. Under the term, “Flavor and odor,” in the reference to “Normal flavor and odor,” “Normal” would be changed to “Reasonably Good”.

These changes would provide a uniform format consistent with recent revisions of other U.S. grade standards. The term, “Hard, woody okra material” would be added to the standards. These terms and allowances currently are in the USDA grading manual for frozen okra effective January 1996, and as such, the standards should be updated.

This proposed revision of the frozen okra standard would revise the text of the standard to provide a common language for trade and better reflect the current marketing of frozen okra. The official grade of a lot of frozen okra covered by these standards is determined by the procedures set forth in the “Regulations Governing Inspection and Certification of Processed Products Thereof, and Certain Other Processed Food Products (§ 52.1 to 52.83).”

AMS is publishing this notice with a sixty day comment period that will provide a sufficient amount of time for interested persons to comment on the proposed revision to the standards.

Authority: 7 U.S.C. 1621-1627.

Dated: May 9, 2011.
Ellen King,
Acting Administrator, Agricultural Marketing Service.

[FR Doc. 2011-11718 Filed 6-1-11; 8:45 am]

BILLING CODE 3410-02-P